DEPARTMENT OF COMMERCE

National Oceanic and Atmospheric Administration

[RTID 0648-XA153]

Pacific Fishery Management Council; Public Meeting

AGENCY: National Marine Fisheries Service (NMFS), National Oceanic and Atmospheric Administration (NOAA), Commerce.

ACTION: Notice of public online meeting.

SUMMARY: As part of its Climate and Communities Initiative (CCI) the Pacific Fishery Management Council (Council) is sponsoring a series of webinars with its advisory bodies, which are open to the public.

DATES: The webinars will be held on the following dates and times:

• Highly Migratory Species Advisory Subpanel and Management Team: Wednesday, May 20, 2020, 1:30-4:30 p.m.

• Scientific and Statistical Committee: Tuesday, May 26, 2020, 1:30-4:30 p.m.

• Groundfish Advisory Subpanel and Management Team: Thursday, May 28, 2020, 1:30-4:30 p.m.

• Coastal Pelagic Species Advisory Subpanel and Management Team: Monday, June 1, 2020, 1:30-4:30 p.m.

• Salmon Advisory Subpanel and Technical Team: Tuesday, June 2, 2020, 1:30-4:30 p.m.

• Habitat Committee: Friday, June 5, 2020, 9 a.m.-12 p.m.

ADDRESSES: This meeting will be held online. Specific meeting information, including directions on how to join the meeting and system requirements will be provided in the meeting announcement on the Council's website (see www.pcouncil.org). You may send an email to Mr. Kris Kleinschmidt (kris.kleinschmidt@noaa.gov) or contact him at (503) 820-2280, extension 412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The Council's Climate and Communities Core Team (CCCT) is coordinating a scenario planning process to explore potential fisheries management challenges under climate variability and change. During a two-day scenario development workshop in January 2020, more than 70 participants, including representatives from each of the Council's advisory bodies, developed four scenarios to be used in a stakeholder driven strategic planning process. This is designed to meet the CCI goal to consider strategies for improving the flexibility and responsiveness of our management actions to near-term climate shift and long-term climate change, and strategies for increasing the resiliency of our managed stocks and fisheries to those changes. The CCCT is now enhancing the clarity of descriptions for each of the four scenarios (also referred to as `deepening' the scenarios). The purpose of this webinar series is to solicit input from the Council's advisory bodies on how possible future conditions described in each of these scenarios might affect the species and fisheries managed under the Council's fishery management plans.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: April 29, 2020.
Tracey L. Thompson,
Acting Deputy Director, Office of Sustainable Fisheries, National Marine Fisheries Service.

[FR Doc. 2020-09471 Filed 5-1-20; 8:45 am]

BILLING CODE 3510-22-P